DEPARTMENT OF LABOR

Office of the Secretary

Submission for OMB Emergency Review; Comment Request

March 7, 2007.

The Department of Labor has submitted the following (see below) information collection request (ICR), utilizing emergency review procedures, to the Office of Management and Budget (OMB) for review and clearance in accordance with the Paperwork Reduction Act (PRA) of 1995 (Pub.L. 104-13, 44 U.S.C. Chapter 35). OMB approval has been requested by March 16, 2007. A copy of this ICR, with applicable supporting documentation, may be obtained by accessing it on: http://www.reginfo.gov/public/do/PRAMain, or by calling the Department of Labor Departmental Clearance Officer, Ira Mills, on 202-693-4122.

Comments and questions about the ICR listed below should be submitted to the Office of Information and Regulatory Affairs, Attn: OMB Desk Officer for the Employment and Training Administration (ETA), Office of Management and Budget, Room 10235, Washington, DC 20503 (202-395-7316), and received prior to the requested OMB approval date.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employment and Training Administration.

Title: Evaluation of State Implementation of Section 303(k) of the Social Security Act.

OMB Number: 1205-0NEW.

Frequency: One-time Survey.

Affected Public: State Government.

Type of Response: Reporting.

Number of Respondents: 53.

Estimated Time Per Respondent: 2 hours.

Total Burden Hours: 106.

Total Burden Cost (capital/startup): 0.

Total Burden Cost (operating/maintaining): 0.

Description: The collection of this information is necessary to examine state implementation of section 303(k) of the Social Security Act (SSA) as to (1) status and effectiveness of state actions to meet the requirement of the law and operation guidance, and (2) whether the Secretary of Labor (Secretary) should recommend Congressional action to make revisions to the law. On August 9, 2004, Public Law (Pub.L.) 108-295, the “ State Unemployment Tax Act (SUTA) Dumping Prevention Act of 2004” (Act) was enacted which amended section 303(k) of the SSA by establishing a minimum nationwide standard for curbing a unemployment compensation tax rate manipulation schemes known as SUTA dumping. The Act requires the Secretary of Labor to conduct a study of state implementation and report to Congress by July 15, 2007 at section 2, F(b)(1). ETA now requests emergency approval to enable ETA's contractor sufficient time to distribute, collect, and analyze the state survey results and incorporate them into the study findings before the July 15, 2007, statutorily mandated submission date for the Secretary's report to Congress. The timing of the survey design and review request corresponds with the states' implementation of the detection systems, which began after enactment of the Federal law. If the survey design and distribution predated the implementation of state detection systems, states would be unable to provide useful data on the status and effectiveness of state actions to meet the requirement(s) of the Federal law and operation guidance.

Ira L. Mills,
Departmental Clearance Officer.

[FR Doc. E7-4567 Filed 3-13-07; 8:45 am]

BILLING CODE 4510-23-P